FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Archer Logistics USA LLC (NVO), 6051 Kennedy Boulevard East, Suite PHB, West New York, NJ 07093, Officer: Pape A. Ndoye, Member (QI), Application Type: New NVO License.

Cyclone Shipping, Inc. (OFF), 2816 East Sandy Court, Gilbert, AZ 85297, Officer: Eric Bailey, President, Application Type: Transfer to Cyclone Shipping, Inc. (an Arizona corporation).

Eastways Shipping Corp. (OFF), 131-08 Liberty Avenue, Richmond Hill, NY 11419, Officers: Latchmie Debideen, Vice President (QI), Sherlock N. Storey, President, Application Type: Additional QI.

Junction Int'l Logistics, Inc. (NVO & OFF), 17870 Castleton Street, Suite 105, City of Industry, CA 91748, Officers: Charles Kuo, Secretary (QI), Xingwang Chen, Director, Application Type: Add OFF Service.

North Star Container, LLC (NVO & OFF), 7400 Metro Blvd., #300, Edina, MN 55439, Officers: Nancy E. Guddal, Vice President (QI), Guohe Mao, President, Application Type: QI Change.

Omnitrans Corporation, Ltd. (NVO & OFF), 111 Broadway, Suite 1705B, New York, NY 10006, Officers: Concetta Mancione, Vice President (QI), Etienne Seiler, CEO, Application Type: QI Change.

RMR International, LLC (OFF), 42544 Hollyhock Terrace, Suite 104, Ashburn, VA 20148, Officer: Rodrigo M. Riveros, Managing Member (QI), Application Type: New OFF License.

YM International LLC (NVO), 714 S. Broadway, Suite B, Redondo Beach, CA 90277, Officer: Marie L. Mei, Member/Manager (QI), Application Type: New NVO License.

By the Commission.
Dated: June 6, 2014.
Karen V. Gregory,
Secretary.

[FR Doc. 2014-14765 Filed 6-24-14; 8:45 am]

BILLING CODE 6730-01-P